DEPARTMENT OF HEALTH AND HUMAN SERVICES

Administration for Children and Families

Notice of Upcoming Public Consultation

AGENCY: Administration for Children and Families, Department of Health and Human Services.

ACTION: Notice of upcoming public consultation.

SUMMARY: The Administration for Children and Families (ACF), in conjunction with the National Congress of American Indians (NCAI), will be holding a one-day Consultation Session on December 2, 2003 at the Sheraton Wild Horse Pass Resort in Phoenix, Arizona.

DATES: December 2, 2003.

Consultation Submission Information: Those interested in submitting Consultation Session topics for the agenda or participating in the tribal planning committee to assist in the development of the Consultation Session agenda should contact NCAI Fellow Christina Morrow at (202) 466-7767 or cmorrow@ncai.org.

If you are proposing a topic to be addressed in the Consultation Session, please be sure to include a brief description of the topic and the name and contact information of the suggested presenter.

SUPPLEMENTARY INFORMATION: ACF would like to invite Tribal leaders to participate in a formal Consultation Session, facilitated by NCAI. The Consultation Session will take place on Tuesday, December 2, 2003, from 9 a.m. to 5 p.m., the day before the ACF National Native American Conference. ACF senior leadership will be present for the Consultation Session.

The intent of this Consultation Session is for ACF officials to hear firsthand from tribal leaders, as well as representatives from tribal organizations and community-based non-profits, about the implementation of ACF programs in native communities. Of particular interest are the challenges that tribes and tribal organizations face in accessing ACF program funding and using programmatic funding to support social and economic development activities in Native American communities. ACF offices such as the Administration for Native Americans, the Office of Child Support Enforcement, the Office of Community Services, the Office of Family Assistance, the Child Care Bureau, the Children's Bureau, the Head Start Bureau, and the Family and Youth Services Bureau will be represented.

Because of the limited time for this day-long Consultation Session, ACF has partnered with the NCAI to plan and facilitate the session. NCAI will be responsible for coordinating the stakeholders who wish to participate in the Consultation Session. NCAI will work with a tribal planning committee to develop a structured agenda, identifying key issues to be raised and spokespersons to present testimony on the issues.

For further information for the ACF National Native American Conference contact: Stacia Henderson at 703-821-2226 x232 at Native American Management Services, Inc. (NAMS) or toll-free 866-313-2955 or on-line at: http://www.acfconference@namsinc.org.

Dated: November 5, 2003.
Quanah Crossland Stamps,
Commissioner, Administration for Native Americans.

[FR Doc. 03-28336 Filed 11-10-03; 8:45 am]

BILLING CODE 4184-01-M